ENVIRONMENTAL PROTECTION AGENCY

[EPA-HQ-OPP-2012-0019; FRL-9337-4]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2011 to December 31, 2011 to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave. NW., Washington, DC 20460-0001; telephone number: (703) 305-6027.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption of interest.

B. How can I get copies of this document and other related information?

EPA has established a docket for this action under docket identification (ID) number EPA-HQ-OPP-2012-0019. Publicly available docket materials are available either electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption.

III. Emergency Exemptions

A. U.S. States and Territories

California

Environmental Protection Agency, Department of Pesticide Regulation

Specific Exemptions: EPA authorized the use of boscalid on Belgian endive to control sclerotinia (Sclerotinia sclerotiorum); December 1, 2011 to February 15, 2012. Contact: Stacey Groce.

EPA authorized the use of pyraclostrobin on Belgian endive to control sclerotinia (sclerotinia sclerotiorum); December 1, 2011 to February 15, 2012. Contact: Stacey Groce.

EPA authorized the use of hop beta acids in beehives to control varroa mite; December 22, 2011. Effective date; January 1, 2012 to December 31, 2012. Contact: Stacey Groce.

Colorado

Department of Agriculture

Specific Exemptions: EPA authorized the use of hop beta acids in beehives to control varroa mite; December 22, 2011. Effective date; January 1, 2012 to December 31, 2012. Contact: Stacey Groce.

EPA authorized the use of spirotetramat on onions, dry bulb, to control thrips; December 14, 2011 to September 30, 2012. Contact: Keri Grinstead.

Florida

Department of Agriculture and Consumer Services

Specific Exemptions: EPA authorized the use of hop beta acids in beehives to control varroa mite; December 22, 2011. Effective date; January 1, 2012 to December 31, 2012. Contact: Stacey Groce.

Idaho

Department of Agriculture

Specific Exemptions: EPA authorized the use of hop beta acids in beehives to control varroa mite; December 22, 2011. Effective date; January 1, 2012 to December 31, 2012. Contact: Stacey Groce.

Oregon

Department of Agriculture

Specific Exemptions: EPA authorized the use of hop beta acids in beehives to control varroa mite; December 22, 2011. Effective date; January 1, 2012 to December 31, 2012. Contact: Stacey Groce.

Texas

Department of Agriculture

Specific Exemptions: EPA authorized the use of spirotetramat on onions, dry bulb, to control thrips; December 22, 2011 to September 30, 2012. Contact: Keri Grinstead.

Washington

Department of Agriculture

EPA authorized the use of hop beta acids in beehives to control varroa mite; December 22, 2011. Effective date; January 1, 2012 to December 31, 2012. Contact: Stacey Groce.

B. Federal Departments and Agencies

Environmental Protection Agency

Office of Emergency Management

Quarantine exemption: EPA authorized the use of chlorine dioxide (gas), chlorine dioxide (liquid), ethylene oxide (gas), formaldehyde (gas), hydrogen peroxide and peracetic acid (liquid), hydrogen peroxide (vapor), and sodium hypochlorite (5.25%-6%) (liquid) on interior and exterior inanimate, non-food contact surfaces including buildings, structures, vehicles, articles/items, personal protective equipment, roads, sidewalks, and subway systems to inactivate Bacillus anthracis (anthrax) spores; October 24, 2011 to October 24, 2014. Contact: Princess Campbell.

List of Subjects

Environmental protection, Pesticides and pests.

Dated: February 1, 2012.
Lois Rossi,
Director, Registration Division, Office of Pesticide Programs.

[FR Doc. 2012-3156 Filed 2-14-12; 8:45 am]

BILLING CODE 6560-50-P